FEDERAL COMMUNICATIONS COMMISSION

Notice of Public Information Collection(s) Being Reviewed by the Federal Communications Commission for Extension Under Delegated Authority, Comments Requested

February 4, 2008.

SUMMARY: The Federal Communications Commission, as part of its continuing effort to reduce paperwork burden, invites the general public and other Federal agencies to take this opportunity to comment on the following information collection(s), as required by the Paperwork Reduction Act of 1995 (PRA), 44 U.S.C. 3501-3520. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 11, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554, or via the Internet to PRA@fcc.gov.

FOR FURTHER INFORMATION CONTACT: For additional information about the information collection(s), contact Leslie F. Smith via the Internet at PRA@fcc.gov or call (202) 418-0217.

SUPPLEMENTARY INFORMATION: OMB Control Number: 3060-0986.

Title: Competitive Carrier Line Count Report.

Form Number: FCC Form 525.

Type of Review: Extension of a currently approved collection.

Respondents: Business or other for-profit.

Number of Respondents and Responses: 1,300 respondents; 4,753 responses.

Estimated Time per Response: 0.5-6 hours.

Obligation to Respond: Required to obtain or retain benefits.

Frequency of Response: On occasion, quarterly and annual reporting requirements; third party disclosure requirement.

Total Annual Burden: 3,707 hours.

Total Annual Cost: $0.00.

Privacy Act Impact Assessment: No impacts.

Nature of Extent of Confidentiality: The Commission is not requesting that the respondents submit confidential information to the FCC. Respondents may, however, request confidential treatment for information they believe to be confidential under 47 CFR 0.459 of the Commission's rules.

Needs and Uses: The Commission will use the information requirements to determine whether and to what extent rural telecommunications carriers and competitive eligible telecommunications carriers (ETCs) providing the data are eligible to receive universal service support. This information includes loop counts, by disaggregation zone, for rural incumbent carriers, which is used to calculate the per-line high-cost universal service support amount available to competitive ETCs serving their territories. It also includes loop counts, by disaggregation zone or unbundled network element zone, for competitive ETCs, which is used to calculate the total high-cost universal service support amount available to competitive ETCs. This competitive ETC loop count requirement includes areas served by incumbent non-rural carriers, in addition to incumbent rural carriers, due to the consolidation of information collections included in a previous revision. Additionally, this information collection requires states to certify that incumbent rural carriers and competitive ETCs are using the high-cost universal service support only for the provision, maintenance, and upgrading of facilities and services for which the support is intended. Finally, this information collection includes cost data filed by incumbent rural carriers on an as-needed basis to establish eligibility for the safety net and safety valve high-cost universal service support mechanisms.

Federal Communications Commission.
Marlene H. Dortch,
Secretary.

[FR Doc. E8-2461 Filed 2-8-08; 8:45 am]

BILLING CODE 6712-01-P